DEPARTMENT OF ENERGY

Federal Energy Regulatory Commission

[Docket No. EF04-5191-000, et al.]

United States Department of Energy, et al.; Electric Rate and Corporate Filings

November 4, 2003.

The following filings have been made with the Commission. The filings are listed in ascending order within each docket classification.

1. United States Department of Energy; Western Area Power Administration

[Docket No. EF04—5191-000]

Take notice that on October 29, 2003, the Deputy Secretary of the Department of Energy, by Rate Order No. WAPA-108, did confirm and approve on an interim basis, to be effective on December 31, 2003, the Western Area Power Administration's (Western) extension of the existing firm point-to-point transmission rate of $17.23/kilowattyear for the AC Intertie 500-kV transmission system, the firm point-to-point transmission service rate of $12.00/kilowattyear for the AC Intertie 230/345-kV transmission system, and the nonfirm point-to-point transmission service rate of 2.00 mills/kilowatthour for the AC Intertie 230/345/500-kV transmission system, effective December 31, 2003, and ending December 31, 2006.

The Deputy Secretary of the Department of Energy states that the rates for the AC Intertie Project will be in effect pending the Federal Energy Regulatory Commission's (Commission) approval of the extension of these or of substitute rates on a final basis.

Comment Date: November 19, 2003.

2. Mountain View Power Partners III, LLC

[Docket No. EG04-7-000]

Take notice that on October 29, 2003, Mountain View Power Partners III, LLC (Mountain View) filed with the Federal Energy Regulatory Commission (Commission) an application for Commission determination of exempt wholesale generator status pursuant to part 365 of the Commission's regulations.

Mountain View states that it is a limited liability company organized under the laws of the State of Delaware and is a wholly owned subsidiary of PPM Energy, Inc. (PPM), an Oregon corporation. Mountain View states that PPM is a wholly owned subsidiary of PacifiCorp Holdings, Inc. (PHI), a Delaware corporation with general offices in Portland, Oregon and that PHI is a wholly owned subsidiary of NA General Partnership (NAGP), a Nevada general partnership. Mountain View also states that NAGP's two partners are ScottishPower NA 1 Limited and ScottishPower NA 2 Limited and that they are private limited companies incorporated in Scotland and are wholly owned subsidiaries of ScottishPower plc, a public limited corporation organized under the laws of Scotland.

Mountain View states that it is in the business of developing, and will construct, own, and operate an approximately 22.44-megawatt wind-powered electric generation facility in Riverside County, California (the Project). Mountain View states that the Project will be an eligible facility pursuant to Section 32(a)(2) of the Public Utility Holding Company Act of 1935, and as such, Mountain View will be engaged directly and exclusively in the business of owning and/or operating one or more eligible facilities and selling electric energy from the Project at wholesale at market-based rates.

Mountain View states that it has served a copy of this filing on the Securities and Exchange Commission, and on the California Public Utilities Commission, the Oregon Public Utility Commission, the Washington Utilities and Transportation Commission, the Utah Public Service Commission, the Idaho Public Utilities Commission, and the Wyoming Public Service Commission as “affected state commissions” under 18 CFR 365.2(b)(3).

Comment Date: November 19, 2003.

3. Goldendale Energy Center, LLC

[Docket No. EG04-8-000]

Take notice that on October 29, 2003, Goldendale Energy Center, LLC (Goldendale) filed with the Federal Energy Regulatory Commission an application for determination of exempt wholesale generator status pursuant to Part 365 of the Commission's regulations.

Goldendale states that it is a Delaware limited liability company, and proposes to own and operate a nominal 248 megawatt combined-cycle power generation plant to be located in Goldendale, Washington, and sell the output at wholesale. Goldendale further states that copies of the application were served upon the U.S. Securities and Exchange Commission and Washington Utilities and Transportation Commission.

Comment Date: November 19, 2003.

4. Texas-New Mexico Power Company, Complainant; v. El Paso Electric Company, Respondent

[Docket No. EL04-15-000]

Take notice that on November 3, 2003, Texas-New Mexico Power Company (TNMP) filed a complaint under Section 206 of the Federal Power Act against El Paso Electric Company (EPE), seeking a Commission order directing EPE to allow TNMP to exercise its rollover rights under a pre-Order No. 888, bundled power sales agreement between TNMP and EPE. TNMP requests that the Commission act on its complaint under the fast-track processing procedures of Rule 206(h) of the Commission's Rules of Practice and Procedure, 18 CFR 385.206(h).

TNMP states that the complaint was served on El Paso Electric Company and the New Mexico Public Regulatory Commission.

Comment Date: November 17, 2003.

5. Indianapolis Power & Light Company

[Docket No. ER00-1026-006]

Take notice that on October 28, 2003, Indianapolis Power & Light Company (Indianapolis Power), pursuant to the Commission's Order in Docket No. ER00-1026-000, tendered for filing its triennial market power update.

Indianapolis Power states that copies of the filing were served upon the parties designated on the official service list.

Comment Date: November 18, 2003.

6. New York State Electric & Gas Corporation

[Docket No. ER03-587-002]

Take notice that on October 30, 2003, New York State Electric & Gas Corporation (NYSEG) tendered for filing pursuant to the Commission's April 28, 2003 Order in Docket No. ER03-587-000, FERC Rate Schedule 33 between NYSEG and Orange and Rockland Utilities, Inc. consistent with the requirements of Order No. 614.

Comment Date: November 20, 2003.

7. New York State Electric & Gas Corporation

[Docket No. ER03-587-003]

Take notice that on October 30, 2003, New York State Electric & Gas Corporation (NYSEG) tendered for filing pursuant to the Commission's Order issued April 28, 2003 in Docket No. ER03-587-000, FERC Rate Schedule 35 between NYSEG and Consolidated Edison Company of New York, Inc. consistent with the requirements of Order No. 614.

Comment Date: November 20, 2003.

8. New York State Electric & Gas Corporation

[Docket No. ER03-587-004]

Take notice that on October 30, 2003, New York State Electric & Gas Corporation (NYSEG), tendered for filing pursuant to FERC's April 28, 2003 Order in Docket No. ER03-587-000, FERC Rate Schedule 28 between NYSEG and NMPC consistent with the requirements of Order No. 614.

Comment Date: November 20, 2003.

9. Yankee Atomic Electric Co.

[Docket No. ER03-704-001]

Take notice that on October 29, 2003, in compliance with the Commission's October 2, 2003 Order in Docket No. ER03-704-000 (Yankee Atomic Electric Company, 105 FERC ¶61,007 (2003), Yankee Atomic Electric Company submitted a revised Power Contract—Yankee Atomic Electric Company, Rate Schedule FERC No. 3.

Comment Date: November 19, 2003.

10. Entergy Services, Inc.

[Docket No. ER03-1140-002]

Take notice that on October 29, 2003, Entergy Services, Inc., (Entergy) on behalf of Entergy Arkansas, Inc., Entergy Gulf States, Inc., Entergy Louisiana, Inc., Entergy Mississippi, Inc., and Entergy New Orleans, Inc., (collectively, the Entergy Operating Companies) filed a compliance filing incorporating revisions to the creditworthiness provisions of Entergy's Open Access Transmission Tariff as required by the Federal Energy Regulatory Commission's September 29, 2003 order, Entergy Services, Inc., 104 FERC ¶61,329, issued in Docket No. ER03-1140-000.

Comment Date: November 19, 2003.

11. New England Power Pool and ISO New England Inc.

[Docket Nos. ER03-1141-001 and EL03-222-001]

Take notice that on October 29, 2003, the New England Power Pool (NEPOOL) Participants Committee and ISO New England Inc. (ISO-NE), submitted for filing responses to certain data requests from the Commission. The responses amend the filing made on July 31, 2003 by NEPOOL and ISO-NE in Docket No. ER03-1141-000.

The NEPOOL Participants Committee states that copies of these materials were sent to the NEPOOL Participants, Non-Participant Transmission Customers and the New England state governors and regulatory commissions.

Comment Date: November 19, 2003.

12. Midwest Energy, Inc.

[Docket No. ER03-1172-001]

Take notice that on October 30, 2003, Midwest Energy, Inc. (Midwest) submitted for filing corrected FERC Rate Schedule No. 19, a Transmission Service Agreement between Midwest and the Kansas Electric Power Cooperative, Inc. (KEPCo) in compliance with the Commission's Order issued September 24, 2003 in Docket No. ER03-1172-000.

Midwest states that a copy of this filing was served upon the Kansas Corporation Commission and KEPCo.

Comment Date: November 20, 2003.

13. Palama, LLC

[Docket No. ER03-1316-001]

Take notice that on October 28, 2003, Palama, LLC (Palama) filed an amendment to its application for market-based rates filed on September 4, 2003. Palama states that the amendment supplies additional information requested in an October 22, 2003 deficiency letter by the Commission including a properly designated Palama market-base rate schedule.

Comment Date: November 18, 2003.

14. Williams Power Company, Inc.

[Docket No. ER03-1331-001]

Take notice that on October 29, 2003, Williams Power Company, Inc. (WPC) submitted for filing an amendment to the Notice of Succession, filed September 12, 2003 in Docket No. ER03-1331-000.

Comment Date: November 19, 2003.

15. Craven County Wood Energy Limited Partnership

[Docket No. ER03-1379-001]

Take notice that on October 28, 2003, Craven County Wood Energy limited Partnership (Craven) submitted supplemental materials in connection with its September 25, 2003 filing of an amendment to a Rate Schedule in Docket No. ER03-1379-000.

Comment Date: November 18, 2003.

16. Nicor Energy, L.L.C.

[Docket No. ER04-17-001]

Take notice that on October 28, 2003, Nicor Energy, L.L.C. (Nicor) pursuant to § 35.15, 18 CFR 35.15, of the Commission's Regulations, filed with the Federal Energy Regulatory Commission an Amended Notice of Cancellation of Nicor's Market-Based FERC Electric Rate Tariff and all rate schedules and/or service agreements thereunder effective October 1, 2003.

Comment Date: November 13, 2003.

17. Idaho Power Company

[Docket No. ER04-75-001]

Take notice that on October 30, 2003, Idaho Power Company (Idaho Power) submitted an amendment to its October 24, 2003 filing in Docket No. ER04-75-000.

Comment Date: November 20, 2003.

18. Vermont Electric Cooperative, Inc.

[Docket No. ER04-89-000]

Take notice that on October 28, 2003, Vermont Electric Cooperative, Inc. (VEC) tendered for filing its Initial Rate Filing and Request for Certain Waivers. VEC's filing includes a Power Transmission Contract between VEC and Central Vermont Public Service Corporation (CVPS) dated March 16, 1981, designated as FERC Rate Schedule No. 1.

CVPS, the Vermont Public Service Board, and the Vermont Department of Public Service were mailed copies of the filing.

Comment Date: November 18, 2003.

19. PSI Energy, Inc.

[Docket No. ER04-90-000]

Take notice that on October 28, 2003, PSI Energy, Inc. (PSI) tendered for filing under Section 205 of the Federal Power Act, an amendment to an interconnection agreement between Hoosier Energy Rural Electric Cooperative, Inc., Southern Indiana Gas and Electric Company and PSI.

PSI Energy, Inc. states that copies of this filing have been served on Hoosier Energy Rural Electric Cooperative, Inc., Southern Indiana Gas and Electric Company, and the Indiana Utility Regulatory Commission.

Comment Date: November 18, 2003.

20. New York Independent System Operator, Inc.

[Docket No. ER04-91-0000]

Take notice that on October 28, 2003, the New York Independent System Operator, Inc. (NYISO) submitted proposed revisions to it Open Access Transmission Tariff to addressing the method by which it charges third party suppliers of Station Power for Ancillary Services. The NYISO has requested that its filing be permitted to become effective on March 22, 2003.

The NYISO states that it has served a copy of this filing upon all parties that have executed service agreements under the NYISO's OATT and Services Tariff.

Comment Date: November 18, 2003.

21. Xcel Energy Services Inc.; Northern States Power Company

[Docket No. ER04-92-000]

Take notice that on October 29, 2003, Xcel Energy Services Inc. (XES), on behalf of Northern States Power Company (NSP), submitted for filing a Generation Interconnection Agreement between NSP and Moraine Wind, LLC.

NSP requests the agreement to be accepted for filing effective November 4, 2002, and requests waiver of the Commission's notice requirements in order for the Agreements to be accepted for filing on the date requested.

Comment Date: November 19, 2003.

22. Xcel Energy Services, Inc.; Northern States Power Company

[Docket No. ER04-93-000]

Take notice that on October 29, 2003, Xcel Energy Services, Inc. (XES), on behalf of Northern States Power Company (NSP) submitted for filing a Generation Interconnection Agreement between NSP and Chanarambie Power Partners, LLC.

NSP requests the agreement be accepted for filing effective December 17, 2002, and requests waiver of the Commission's notice requirements in order for the Agreement to be accepted for filing on the date requested.

Comment Date: November 19, 2003.

23. Mountain View Power Partners III, LLC

[Docket No. ER04-94-000]

Take notice that on October 28, 2003, Mountain View Power Partners III, LLC (Mountain View III) filed with the Federal Energy Regulatory Commission (Commission) pursuant to Section 205 of the Federal Power Act an Application for an Order Accepting Initial Rate Schedule, which would allow Mountain View III to engage in the sale of electric energy and capacity at market-based rates. Mountain View III states it is engaged in the business of developing, and will construct, own, and operate, a 22.44-megawatt wind-powered generation facility located in Riverside County, California. Mountain View III states that it seeks certain waivers, blanket approvals, and authorizations under the Commission's regulations. Mountain View III also seeks expedited review and a waiver of the 60-day notice requirement under 18 CFR 35.3.

Comment Date: November 18, 2003.

24. Central Vermont Public Service Corporation

[Docket No. ER04-95-000]

Take notice that on October 29, 2003, Central Vermont Public Service Corporation (Central Vermont) tendered for filing revised tariff pages (Revised Pages) to its Open Access Transmission Tariff (OATT) to reflect the disposition of Connecticut Valley Electric Company Inc.'s (CVEC) jurisdictional facilities to the Public Service Company of New Hampshire (PSNH) and to make technical modifications to Central Vermont's formula rates.

Central Vermont respectfully requests that the Commission allow the Revised Pages to become effective January 1, 2004, the date that the disposition of facilities is to be consummated.

Central Vermont states that copies of the filing were served upon Central Vermont's OATT customers, PSNH, CVEC, the Vermont Public Service Board, and the New Hampshire Public Utilities Commission.

Comment Date: November 19, 2003.

25. Southern California Edison Company

[Docket No. ER04-96-000]

Take notice, that on October 29, 2003, Southern California Edison Company (SCE) tendered for filing the Interconnection Facilities Agreement (Interconnection Agreement) between SCE and the City of Corona, California (Corona). SCE states that the Interconnection Agreement specifies the terms and conditions, pursuant to which SCE will design, construct, install, and own the Interconnection Facilities necessary to interconnect Corona's distribution system serving Corona's Wholesale Distribution Load at Corona Pointe and Corona Crossroads to SCE's Distribution System. SCE requests that the Interconnection Agreement become effective on October 15, 2003.

SCE states that copies of this filing were served upon the Public Utilities Commission of the State of California, and Corona.

Comment Date: November 19, 2003.

26. Watt Works LLC

[Docket No. ER04-98-000]

Take notice that on October 29, 2003, Watt Works LLC (Watt) tendered for filing a Notice of Cancellation of its Market-based Rate Authority granted in Docket No. ER97-2592-000.

Comment Date: November 19, 2003.

27. Northern/AES Energy, LLC

[Docket No. ER04-102-000]

Take notice that, on October 29, 2003, Northern/AES Energy, LLC (Northern) filed a Notice of Cancellation of its FERC Electric Tariff, Rate Schedule FERC No. 1 accepted under Docket No. ER93-445-000. Northern requests that this Notice of Cancellation be effective as of October 29, 2003.

Comment Date: November 19, 2003.

28. Union Electric Development Corporation

[Docket No. ER04-104-000]

Take notice that on October 30, 2003, Union Electric Development Corporation (UEDC) tendered for filing a Notice of Cancellation of its Market-based Rate Authority granted under Docket No. ER97-3663-000. UEDC request an effective date of September 17, 2003.

Comment Date: November 20, 2003.

29. DC Tie, Inc.

[Docket No. ER04-105-000]

Take notice that on October 29, 2003, DC Tie, Inc. tendered for filing a Notice of Cancellation of its Market-based rate tariff originally granted under Docket No. ER91-435-000. DC Tie, Inc is requesting an effective date of October 28, 2003.

Comment Date: November 19, 2003.

30. Deseret Generation & Transmission Co-operative, Inc.

[Docket No. ER04-107-000]

Take notice that on October 30, 2003, Deseret Generation & Transmission Co-operative, Inc. (Deseret) tendered for filing an amendment to First Revised Service Agreement No. 2 under Deseret's FERC Electric Tariff, Original Volume 1. Deseret states that the amendment includes an Agreement for Large Industrial Incentive Rate between Deseret and one of its members, Dixie-Escalante Rural Electric Association, Inc., implementing Deseret Rate Schedule DRAE-Wells. Deseret requests an effective date of November 1, 2003.

Deseret states that copies of this filing have been served upon Deseret's member cooperatives.

Comment Date: November 20, 2003.

31. American Transmission Company LLC; Midwest Independent Transmission System Operator, Inc.

[Docket No. ER04-108-000]

Take notice that on October 30, 2003, American Transmission Company LLC (ATCLLC) and the Midwest Independent Transmission System Operator, Inc. (Midwest ISO) tendered for filing changes to Attachment O of the Midwest ISO(s Open Access Transmission Tariff, to modify the rate formula for calculating rates for transmission service within the ATCLLC transmission system. ATCLLC and the Midwest ISO request an effective date of January 1, 2004.

The Midwest ISO seeks waiver of the Commission(s regulations,18 CFR 385.2010 with respect to service on all required parties. The Midwest ISO states that it has electronically served a copy of this filing upon all Midwest ISO members, members representatives of Transmission Owners and Non-Transmission owners, the Midwest ISO Advisory Committee participants, as well as all state Commissioners within the region. The Midwest ISO also states it has posted this filing on its Internet site at http://www.midwestiso.org, and the Midwest ISO will provide hard copies to any interested parties upon request.

Comment Date: November 20, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00203 Filed 11-12-03; 8:45 am]

BILLING CODE 6717-01-P